ENVIRONMENTAL PROTECTION AGENCY

40 CFR Parts 9 and 86

[EPA-HQ-OAR-2005-0474; FRL-8214-9]

RIN 2060-AN70

Amendments to Regulations for Heavy-Duty Diesel Engines

AGENCY: Environmental Protection Agency (EPA).

ACTION: Direct final rule.

SUMMARY: In a rule published January 18, 2001, EPA promulgated several new standards for heavy-duty highway diesel engines and vehicles beginning in model year 2007. In this rulemaking we are making some technical amendments to the regulations to correct typographical errors, revise references, remove old provisions, and to revise some provisions regarding deterioration factors to be identical to those for nonroad diesel engines certified under the Tier 4 rule, published June 29, 2004.

DATES: This direct final rule is effective on October 30, 2006 without further notice, unless we receive adverse comments by September 29, 2006 or receive a request for a public hearing by September 14, 2006. If we receive any adverse comments on this direct final rule, or on one or more amendments in this direct final rule, or receive a request for a hearing within the time frame described above, we will publish a timely withdrawal in the Federal Register informing the public that this rule, or the provisions of this rule that are the subject of adverse comment, will not take effect.

ADDRESSES: Submit your comments, identified by Docket ID No. EPA-HQ-OAR-2005-0474, by one of the following methods:

• www.regulations.gov: Follow the on-line instructions for submitting comments.

• E-mail: a-and-r-docket@epa.gov.

• Fax: (202) 566-1741.

• Mail: U.S. Environmental Protection Agency, EPA West Building, 1200 Pennsylvania Ave., NW., Room: B108 Mail Code: 6102T, Washington, DC 20460. Deliveries are only accepted during the Docket's normal hours of operation from 8:30 a.m. to 4:30 p.m., Monday through Friday, except on government holidays. If your Docket requires the submission of multiple copies, please insert the following here:

▸ Please include a total of copies.

▸ If the NPRM involves an ICR that will be submitted to OMB for review and approval under 5 CFR 1320.11, then you must also include the following language pursuant to 1320.11(a): “In addition, please mail a copy of your comments on the information collection provisions to the Office of Information and Regulatory Affairs, Office of Management and Budget (OMB), Attn: Desk Officer for EPA, 725 17th St., NW., Washington, DC 20503.”

• Hand Delivery: EPA Docket Center (Air Docket), U.S. Environmental Protection Agency, EPA West Building, 1301 Constitution Avenue, NW., Room: B108, Mail Code: 6102T, Washington, DC. Such deliveries are only accepted during the Docket's normal hours of operation from 8:30 a.m. to 4:30 p.m., Monday through Friday, except on government holidays, and special arrangements should be made for deliveries of boxed information.

Instructions: Direct your comments to Docket ID No. EPA-HQ-OAR-2005-0474. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the EPA Docket Center (EPA/DC), Air Docket, Public Reading Room, Room B108, EPA West Building, 1301 Constitution Avenue, NW., Washington, DC. The EPA Docket Center Public Reading Room is open from 8:30 a.m. to 4:30 p.m., Monday through Friday, except on government holidays. You can reach the Air Docket by telephone at (202) 566-1742 and by facsimile at (202) 566-1741. You may be charged a reasonable fee for photocopying docket materials, as provided in 40 CFR part 2.

FOR FURTHER INFORMATION CONTACT: Zuimdie Guerra, Assessment and Standards Division, e-mail guerra.zuimdie@epa.gov, voice-mail (734) 214-4387.

SUPPLEMENTARY INFORMATION:

I. General Information

EPA is publishing this rule without a prior proposal because we view this action as noncontroversial and anticipate no adverse comment. However, in the “Proposed Rules” section of today's Federal Register publication, we are publishing a separate document that will serve as the proposal to adopt the provisions in this Direct Final Rule if adverse comments are filed. This rule will be effective on October 30, 2006 without further notice unless we receive adverse comment by September 29, 2006 or a request for a public hearing by September 14, 2006. If we receive adverse comment on one more distinct provisions of this rule, we will publish a timely withdrawal in the Federal Register indicating which provisions are being withdrawn due to adverse comment. We may address all adverse comments in a subsequent final rule based on the proposed rule. We will not institute a second comment period on this action. Any parties interested in commenting must do so at this time. Any distinct provisions of today's rulemkaing for which we do not receive adverse comment will become effective on the date set out above, notwithstanding any adverse comment on any other distinct provisions of today's rule.

A. Regulated Entities

This action will affect companies that manufacture and certify heavy-duty highway diesel engines in the United States.

Category | NAICS Code ᵃ | Examples of potentially affected entities
Industry | 336112 | Engine and Truck Manufacturers.
Industry | 33612 | Heavy-duty Engine and Truck Manufacturers.
ᵃ North American Industry Classification System (NAICS).

To determine whether particular activities may be affected by this action, you should carefully examine the regulations. You may direct questions regarding the applicability of this action as noted in FOR FURTHER INFORMATION CONTACT.

B. How Can I Get Copies of This Document?

1. Docket. EPA has established an official public docket for this action under Air Docket Number EPA-HQ-OAR-2005-0474. The official public docket consists of the documents specifically referenced in this action, any public comments received, and other information related to this action. Although a part of the official docket, the public docket does not include Confidential Business Information (CBI) or other information whose disclosure is restricted by statute. The official public docket is the collection of materials that is available for public viewing at the Air Docket in the EPA Docket Center (EPA/DC), EPA West Building, Room B108, 1301 Constitution Ave., NW., Washington, DC. The EPA Docket Center Public Reading Room is open from 8:30 a.m. to 4:30 p.m., Monday through Friday, excluding legal holidays. The telephone number for the Public Reading Room is (202) 566-1744, and the telephone number for the Air Docket is (202) 566-1742.

2. Electronic Access. This direct final rule is available electronically from the EPA Internet Web site. This service is free of charge, except for any cost incurred for internet connectivity. The electronic version of this final rule is made available on the date of publication on the primary Web site listed below. The EPA Office of Transportation and Air Quality also publishes Federal Register notices and related documents on the secondary Web site listed below.

1. http://www.epa.gov/docs/fedrgstr/EPA-AIR (either select desired date or use Search features).

2. http://www.epa.gov/otaq (look in What's New or under the specific rulemaking topic).

Please note that due to differences between the software used to develop the documents and the software into which the document may be downloaded, format changes may occur.

C. How and To Whom Do I Submit Comments?

You may summit comments on this direct final rule as described in this section. You should note that we are also publishing a notice of proposed rulemaking in the “Proposed Rules” section of today's Federal Register, which matches the substance of this direct final rule. Your comments on this direct final rule will be considered to also be applicable to that notice of proposed rulemaking. If we receive any adverse comments on this direct final rule or receive a request for a hearing within the time frame described above, we will publish a timely withdrawal in the Federal Register informing the public that this rule, or the provisions of this rule receiving adverse comment, will not take effect. We may then take final action in a final rule based on the accompanying proposal. We will not institute a second comment period.

You may submit comments electronically, by mail, by facsimile, or through hand delivery/courier. To ensure proper receipt by EPA, identify the appropriate docket identification number in the subject line on the first page of your comment. Please ensure that your comments are submitted within the specified comment period. Comments received after the close of the comment period will be marked “late.” EPA is not required to consider these late comments.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA dockets. Your use of EPA's electronic public docket to submit comments to EPA electronically is EPA's preferred method for receiving comments directly to EPA Dockets at www.regulations.gov and follow the online instructions for submitting comments. Once in the system, select “search,” and then key in Docket ID No. EPA-HQ-OAR-2005-0474. The system is an “anonymous access” system, which means EPA will not know your identity, e-mail address, or other contact information unless you provide it in the body of your comment.

ii. E-mail. Comments may be sent by electronic mail (e-mail) to a-and-r-docket@epa.gov Attention Air Docket ID No. EPA-HQ-OAR-2005-0474. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in ADDRESSES above. These electronic submissions will be accepted in WordPerfect or ASCII file format. Avoid the use of special characters and any form of encryption.

2. By Mail. Send two copies of your comments to: U.S. Environmental Protection Agency, EPA West Building, 1200 Pennsylvania Ave., NW., Room: B108 Mail Code: 6102T, Washington, DC 20460, Attention Docket ID No. EPA-HQ-OAR-2005-0474.

3. By Hand Delivery or Courier. Deliver your comments to: EPA Docket Center (Air Docket), U.S. Environmental Protection Agency, EPA West Building, 1301 Constitution Avenue, NW., Room: B108 Mail Code: 6102T, Washington, DC, Attention Air Docket ID No. EPA-HQ-OAR-2005-0474. Such deliveries are only accepted during the Docket's normal hours of operation as identified in Unit I.

4. By Facsimile. Fax your comments to: (202) 566-1741, Attention Docket ID No. EPA-HQ-OAR-2005-0474.

II. Summary of Rule

EPA is making the following minor amendments to correct typographical errors, revise references, restore sections, conciliate provisions with our nonroad engine regulations and remove old provisions:

• Removing several sections that describe regulatory requirements for model years before 1996, and before 2001 for Selective Enforcement Auditing. Discontinuing publication of these sections does not affect the manufacturers' responsibility to continue meeting standards for any vehicles or engines that may still be operating within the regulatory useful life.

• Revising the provisions for certification fees in part 86 subpart J and referring to part 85 subpart Y, since they have been completely replaced in part 85 starting with the 2004 model year.

• Adding a provision to part 86 to require manufacturers of all types of engines, vehicles, and motorcycles to name an agent for service of process in the United States. This provision does not place additional burden on engine, vehicle, and motorcycle manufacturers because they already need to do this to comply with our certification requirements. This simply formalizes an existing policy to allow us to ensure that we will have a person in the United States who is able to speak for the company and receive communication regarding any aspect of our effort to certify engines and oversee compliance of certified products. This applies to § 86.007-21, § 86.416-80, § 86.437-78, and § 86.1844-01.

• Re-publishing § 86.004-28(c)(4)(iii)(B) to establish deterioration factor provisions applicable to a highway heavy-duty engine identical to the options available to nonroad certified heavy-duty diesel engines certified under 40 CFR 1039.240. The new provisions establish additive deterioration factors as the default but require the use of multiplicative deterioration factors if, based on good engineering judgment, they are more appropriate for a particular engine family.

• Re-publishing § 86.007-11(a)(2)(v) to correct a typographical error in the equation.

• Adding paragraph (j) to § 86.007-35 to ensure that the recently added provision that allows labeling flexibility to heavy-duty engines extends to 2007 and later model years. EPA inadvertently forgot to add this provision to the 2007 model year regulations.

• Revising § 86.1213-94 to reference the fuel specifications in part 86, subpart N. This avoids a duplication of regulatory text and does not change the applicable test procedures in any way.

• Republishing § 86.1360(c), which was removed in the migration of test procedures to 40 CFR part 1065. This paragraph needs to be added back because there is a reference to it in § 86.1370-2007 and in § 86.1380-2004.

• Revising § 86.1806-01 to properly cite the incorporation by reference of several technical standards related to on-board diagnostics. These documents are formally incorporated by reference in § 86.1, so the text in § 86.1806-01 is revised to describe how the standards apply, with a straightforward reference to § 86.1 for the full description of the standards with instructions for readers to obtain the documents.

• Revising the language in CFR § 86.1806-04(j) and § 86.1806-05(j) to correctly refer to LDVs, LDTs and heavy-duty vehicles weighing 14,000 pounds GVWR or less. Inadvertently we referenced “heavy-duty engines weighing 14,000 pounds GVWR or less” instead of LDVs, LDTs and heavy-duty vehicles weighing 14,000 pounds GVWR or less.

• Correcting a mistake made in the 2004 Heavy-Duty rule that revised § 86.1840-01. This rule revision included only paragraphs (a) and (b) and therefore paragraphs (c) and (d) were omitted from § 86.1840-01. EPA had no intention of removing paragraphs (c) and (d). This rule is adding these two paragraphs back.

EPA does not expect that these minor revisions will have any adverse cost impact to the manufacturers. There are no testing costs associated with the revisions. There is no environmental impact associated with this regulatory action because this rulemaking does not change the heavy-duty highway diesel engine emission standards that manufacturers have to meet; it simply makes some minor amendments to the regulations.

III. Statutory and Executive Order Reviews

A. Executive Order 12866: Regulatory Planning and Review

This action is not a “significant regulatory action” under the terms of Executive Order (EO) 12866 (58 FR 51735, October 4, 1993) and is therefore not subject to review under the EO.

This direct final rule is not a significant regulatory action as it merely makes a slight revision to the regulations to correct typographical errors, revise references, restore sections, conciliate provisions with our nonroad engine regulations and remove old provisions for highway heavy-duty diesel engines. There are no new costs associated with this rule.

B. Paperwork Reduction Act

This proposed rule does not include any new collection requirements, as it merely makes a slight revision to the regulations to correct typographical errors, revise references, restore sections, conciliate provisions with our nonroad engine regulations and remove old provisions for highway heavy-duty diesel engines. There are no new paperwork requirements associated with this rule. The information collection requirements (ICR) for the original heavy-duty diesel engines and vehicles rulemaking were approved by the Office of Management and Budget (OMB) under the Paperwork Reduction Act, 44 U.S.C. 3501 et seq. and assigned OMB control number 2060-0104, EPA ICR number 0783.47. A copy of the OMB approved Information Collection Request (ICR) may be obtained from Susan Auby, Collection Strategies Division; U.S. Environmental Protection Agency (2822T); 1200 Pennsylvania Ave., NW., Washington, DC 20460 or by calling (202) 566-1672.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number. The OMB control numbers for EPA's regulations in 40 CFR are listed in 40 CFR part 9.

C. Regulatory Flexibility Act

EPA has determined that it is not necessary to prepare a regulatory flexibility analysis in connection with this direct final rule.

For purposes of assessing the impacts of this final rule on small entities, a small entity is defined as: (1) A small business that meet the definition for business based on SBA size standards at 13 CFR 121.201; (2) a small governmental jurisdiction that is a government of a city, county, town, school district or special district with a population of less than 50,000; and (3) a small organization that is any not-for-profit enterprise which is independently owned and operated and is not dominant in its field.

After considering the economic impacts of today's final rule on small entities, EPA has concluded that this action will not have a significant economic impact on a substantial number of small entities. In determining whether a rule has a significant economic impact on a substantial number of small entities, the impact of concern is any significant adverse economic impact on small entities, since the primary purpose of the regulatory flexibility analyses is to identify and address regulatory alternatives “which minimize any significant economic impact of the proposed rule on small entities.” 5 U.S.C. 603 and 604. Thus, an agency may conclude that a rule will not have a significant economic impact on a substantial number of small entities if the rule relieves regulatory burden, or otherwise has a positive economic effect on all of the small entities subject to the rule.

This direct final rule merely makes a slight revision to the regulations to correct typographical errors, revise references, restore sections, conciliate provisions with our nonroad engine regulations and remove old provisions for highway heavy-duty diesel engines. We have therefore concluded that today's final rule will relieve regulatory burden for all small entities.

D. Unfunded Mandates Reform Act

Title II of the Unfunded Mandates Reform Act of 1995 (UMRA), Public Law 104-4, establishes requirements for federal agencies to assess the effects of their regulatory actions on state, local, and tribal governments and the private sector. Under section 202 of the UMRA, EPA generally must prepare a written statement, including a cost-benefit analysis, for proposed and final rules with “federal mandates” that may result in expenditures to state, local, and tribal governments, in the aggregate, or to the private sector, of $100 million or more in any one year. Before promulgating an EPA rule for which a written statement is needed, section 205 of the UMRA generally requires EPA to identify and consider a reasonable number of regulatory alternatives and adopt the least costly, most cost-effective, or least burdensome alternative that achieves the objectives of the rule. The provisions of section 205 do not apply when they are inconsistent with applicable law. Moreover, section 205 allows EPA to adopt an alternative other than the least costly, most cost-effective, or least burdensome alternative if the Administrator publishes with the final rule an explanation of why such an alternative was adopted.

Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant federal intergovernmental mandates, and informing, educating, and advising small governments on compliance with the regulatory requirements.

This rule contains no federal mandates for state, local, or tribal governments as defined by the provisions of Title II of the UMRA. The rule imposes no enforceable duties on any of these governmental entities. Nothing in the rule would significantly or uniquely affect small governments. EPA has determined that this rule contains no regulatory requirements that might significantly or uniquely affect small governments.

This direct final rule merely makes a slight revision to the regulations to correct typographical errors, revise references, restore sections, conciliate provisions with our nonroad engine regulations and remove old provisions for highway heavy-duty diesel engines. Thus, today's rule is not subject to the requirements of sections 202 and 205 of the UMRA.

E. Executive Order 13132: Federalism

Executive Order 13132, entitled “Federalism” (64 FR 43255, August 10, 1999), requires EPA to develop an accountable process to ensure “meaningful and timely input by State and local officials in the development of regulatory policies that have federalism implications.” “Policies that have federalism implications” are defined in the Executive Order to include regulations that have “substantial direct effects on the States, on the relationship between the national government and the States, or on the distribution of power and responsibilities among the various levels of government.”

Under Section 6 of Executive Order 13132, EPA may not issue a regulation that has federalism implications, that imposes substantial direct compliance costs, and that is not required by statute, unless the Federal government provides the funds necessary to pay the direct compliance costs incurred by State and local governments, or EPA consults with State and local officials early in the process of developing the regulation. EPA also may not issue a regulation that has federalism implications and that preempts State law, unless the Agency consults with State and local officials early in the process of developing the regulation.

Section 4 of the Executive Order contains additional requirements for rules that preempt State or local law, even if those rules do not have federalism implications (i.e., the rules will not have substantial direct effects on the States, on the relationship between the national government and the states, or on the distribution of power and responsibilities among the various levels of government). Those requirements include providing all affected State and local officials notice and an opportunity for appropriate participation in the development of the regulation. If the preemption is not based on express or implied statutory authority, EPA also must consult, to the extent practicable, with appropriate State and local officials regarding the conflict between State law and Federally protected interests within the agency's area of regulatory responsibility.

This rule does not have federalism implications. It will not have substantial direct effects on the States, on the relationship between the national government and the States, or on the distribution of power and responsibilities among the various levels of government, as specified in Executive Order 13132. This direct final rule merely makes a slight revision to the regulations to correct typographical errors, revise references, restore sections, conciliate provisions with our nonroad engine regulations and remove old provisions for highway heavy-duty diesel engines.

F. Executive Order 13175: Consultation and Coordination With Indian Tribal Governments

Executive Order 13175, entitled “Consultation and Coordination with Indian Tribal Governments” (59 FR 22951, November 6, 2000), requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.”

This rule does not have tribal implications. It will not have substantial direct effects on tribal governments, on the relationship between the Federal government and Indian tribes, or on the distribution of power and responsibilities between the Federal government and Indian tribes, as specified in Executive Order 13175. This rule does not uniquely affect the communities of Indian Tribal Governments. Further, no circumstances specific to such communities exist that would cause an impact on these communities beyond those discussed in the other sections of this rule. This direct final rule merely makes a slight revision to the regulations to correct typographical errors, revise references, restore sections, conciliate provisions with our nonroad engine regulations and remove old provisions for highway heavy-duty diesel engines. Thus, Executive Order 13175 does not apply to this rule.

G. Executive Order 13045: Protection of Children From Environmental Health and Safety Risks

Executive Order 13045, “Protection of Children from Environmental Health Risks and Safety Risks” (62 FR 19885, April 23, 1997) applies to any rule that (1) is determined to be “economically significant” as defined under Executive Order 12866, and (2) concerns an environmental health or safety risk that EPA has reason to believe may have a disproportionate effect on children. If the regulatory action meets both criteria, Section 5-501 of the Order directs the Agency to evaluate the environmental health or safety effects of the planned rule on children, and explain why the planned regulation is preferable to other potentially effective and reasonably feasible alternatives considered by the Agency.

This rule is not subject to the Executive Order because it is not economically significant, and does not involve decisions on environmental health or safety risks that may disproportionately affect children.

H. Executive Order 13211: Actions That Significantly Affect Energy Supply, Distribution, or Use

This rule is not subject to Executive Order 13211, “Actions Concerning Regulations That Significantly Affect Energy Supply, Distribution, or Use” (66 FR 28355 (May 22, 2001)) because it is not a significant regulatory action under Executive Order 12866.

I. National Technology Transfer and Advancement Act

Section 12(d) of the National Technology Transfer and Advancement Act of 1995 (“NTTAA”), Public Law 104-113, section 12(d) (15 U.S.C. 272 note) directs EPA to use voluntary consensus standards in its regulatory activities unless doing so would be inconsistent with applicable law or otherwise impractical. Voluntary consensus standards are technical standards (such as materials specifications, test methods, sampling procedures, and business practices) that are developed or adopted by voluntary consensus standards bodies. NTTAA directs EPA to provide Congress, through OMB, explanations when the Agency decides not to use available and applicable voluntary consensus standards.

This direct final rule does not involve technical standards. This direct final rule merely makes a slight revision to the regulations to correct typographical errors, revise references, restore sections, conciliate provisions with our nonroad engine regulations and remove old provisions for highway heavy-duty diesel engines. Thus, we have determined that the requirements of the NTTAA do not apply.

J. Congressional Review Act

The Congressional Review Act, 5 U.S.C. 801 et seq., as amended by the Small Business Regulatory Enforcement Fairness Act of 1996, generally provides that before a rule may take effect, the agency promulgating the rule must submit a rule report, which includes a copy of the rule, to Congress and the Comptroller General of the United States. We will submit a report containing this rule and other required information to the U.S. Senate, the U.S. House of Representatives, and the Comptroller General of the United States before publication of the rule in the Federal Register. A major rule cannot take effect until 60 days after it is published in the Federal Register. This action is not a “major rule” as defined by 5 U.S.C. 804(2). This direct final rule is effective on October 30, 2006.

K. Statutory Authority

The statutory authority for this action comes from section 202 of the Clean Air Act as amended (42 U.S.C. 7521). This action is a rulemaking subject to the provisions of Clean Air Act section 307(d). See 42 U.S.C. 7607(d).

List of Subjects

40 CFR Part 9

Reporting and recordkeeping requirements.

40 CFR Part 86

Environmental protection, Administrative practice and procedure, Air pollution control, Motor vehicle pollution, Reporting and recordkeeping requirements.

Dated: August 24, 2006.
Stephen L. Johnson,
Administrator.

For the reasons set out in the preamble, title 40, chapter I of the Code of Federal Regulations is amended as set forth below.

PART 9—OMB APPROVALS UNDER THE PAPERWORK REDUCTION ACT

1. The authority citation for part 9 continues to read as follows:

Authority: 7 U.S.C. 135 et seq., 136-136y; 15 U.S.C. 2001, 2003, 2005, 2006, 2601-2671; 21 U.S.C. 331j, 346a, 348; 31 U.S.C. 9701; 33 U.S.C. 1251 et seq., 1311, 1313d, 1314, 1318, 1321, 1326, 1330, 1342, 1344, 1345(d) and (e), 1361; E.O. 11735, 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

2. Section 9.1 is amended by removing from the table the following entries:

86.085-13 | 86.091-21 | 86.092-15
86.090-14 | 86.091-23 | 86.092-23
86.090-21 | 86.091-28 | 86.092-24
86.090-25 | 86.091-30 | 86.092-26
86.090-26 | 86.092-14 | 86.092-35
86.091-15 |  | 86.094-7—86.094-9
86.094-24(a)(3)(iii) | 86.608-96 | 86.1313-84
86.094-35 | 86.609-84 | 86.1313-87
86.095-24 | 86.609-96 | 86.1313-90
86.113-82 | 86.612-84 | 86.1313-91
86.113-87 | 86.908-01 | 86.1314-84
86.113-90 | 86.909-93 | 86.1316-84
86.113-91 | 86.1003-97 | 86.1316-90
86.135-82 | 86.1008-90 | 86.1319-84
86.135-90 | 86.1008-96 | 86.1321-84
86.135-94 | 86.1009-84 | 86.1321-90
86.144-90 | 86.1009-96 | 86.1327-84
86.608.88 | 86.1213-85 | 86.1327-88
86.608.90 | 86.1213-87 | 86.1327-90

PART 86—CONTROL OF EMISSIONS FROM NEW AND IN-USE HIGHWAY VEHICLES AND ENGINES

3. The authority citation for part 86 continues to read as follows:

Authority: 42 U.S.C. 7401-7671q.

Subpart A—[Amended]

4. Subpart A is amended by removing the following sections:

86.084-40 | 86.091-11 | 86.092-35
86.085-1 | 86.091-15 | 86.093-11
86.085-13 | 86.091-21 | 86.093-35
86.088-10 | 86.091-23 | 86.094-8
86.090-1 | 86.091-28 | 86.094-11
86.090-9 | 86.091-30 | 86.094-24
86.090-14 | 86.091-35 | 86.094-35
86.090-21 | 86.092-1 | 86.094-38
86.090-22 | 86.092-14 | 86.095-24
86.090-24 | 86.092-15
86.090-25 | 86.092-23
86.090-26 | 86.092-24
86.091-9 | 86.092-26

5. Section 86.004-28 is amended by redesignating the paragraph (c)(4)(iii)(B)(iv) as (c)(4)(iii)(B)(4) and revising paragraphs (c)(4)(iii)(B)(1) and (c)(4)(iii)(B)(2) to read as follows:

§ 86.004-28 Compliance with emission standards.

* * * * *

(c) * * *

(4) * * *

(iii) * * *

(B) * * *

(1) Additive deterioration factor for exhaust emissions. Except as specified in paragraph (c)(4)(iii)(B)(2) of this section, use an additive deterioration factor for exhaust emissions. An additive deterioration factor for a pollutant is the difference between exhaust emissions at the end of the useful life and exhaust emissions at the low-hour test point. In these cases, adjust the official emission results for each tested engine at the selected test point by adding the factor to the measured emissions. If the factor is less than zero, use zero. Additive deterioration factors must be specified to one more decimal place than the applicable standard.

(2) Multiplicative deterioration factor for exhaust emissions. Use a multiplicative deterioration factor if good engineering judgment calls for the deterioration factor for a pollutant to be the ratio of exhaust emissions at the end of the useful life to exhaust emissions at the low-hour test point. For example, if you use aftertreatment technology that controls emissions of a pollutant proportionally to engine-out emissions, it is often appropriate to use a multiplicative deterioration factor. Adjust the official emission results for each tested engine at the selected test point by multiplying the measured emissions by the deterioration factor. If the factor is less than one, use one. A multiplicative deterioration factor may not be appropriate in cases where testing variability is significantly greater than engine-to-engine variability. Multiplicative deterioration factors must be specified to one more significant figure than the applicable standard.

* * * * *

6. Section 86.007-11 is amended by revising paragraph (a)(2)(v) to read as follows:

§ 86.007-11 Emission standards and supplemental requirements for 2007 and later model year heavy-duty engines and vehicles.

* * * * *

(a) * * *

(2) * * *

(v) Determine your engine's brake-specific emissions using the following calculation, which weights the emissions from the cold-start and hot-start test intervals:

* * * * *

7. Section 86.007-21 is amended by adding paragraph (q) to read as follows:

§ 86.007-21 Application for certification.

* * * * *

(q) The manufacturer must name an agent for service of process located in the United States. Service on this agent constitutes service on you or any of your officers or employees for any action by EPA or otherwise by the United States related to the requirements of this part.

8. Section 86.007-35 is amended by adding paragraph (j) to read as follows:

§ 86.007-35 Labeling.

* * * * *

(j) The Administrator may approve in advance other label content and formats provided the alternative label contains information consistent with this section.

Subpart B—[Amended]

9. Subpart B is amended by removing the following sections:

86.106-90

86.106-94

86.107-90

86.109-90

86.113-91

86.114-79

86.116-90

86.117-90

86.120-82

86.121-82

86.127-90

86.127-94

86.130-78

86.131-90

86.132-90

86.133-90

86.138-90

86.140-82

86.140-90

86.143-90

86.144-90

Subpart E—[Amended]

10. Subpart E is amended by removing the following sections:

86.401-90

86.410-80

11. Section 86.416-80 is amended by adding paragraph (a)(2)(ix) to read as follows:

§ 86.416-80 Application for certification.

(a) * * *

(2) * * *

(ix) The name of an agent for service of process located in the United States. Service on this agent constitutes service on you or any of your officers or employees for any action by EPA or otherwise by the United States related to the requirements of this part.

* * * * *

12. Section 86.437-78 is amended by adding paragraph (b)(1)(iii) to read as follows:

§ 86.437-78 Certification.

* * * * *

(b) * * *

(1) * * *

(iii) The name of an agent for service of process located in the United States. Service on this agent constitutes service on you or any of your officers or employees for any action by EPA or otherwise by the United States related to the requirements of this part.

* * * * *

Subpart F—[Amended]

13. Subpart F is amended by removing the following sections:

86.513-87

86.513-90

86.519-78

86.529-78

Subpart G—[Amended]

14. Subpart G is amended by removing the following sections:

86.602-97

86.603-97

86.608-88

86.608-90

86.608-96

86.608-97

86.609-84

86.609-96

86.609-97

86.610-96

86.612-84

Subpart J—[Amended]

15. Subpart J is revised to read as follows:

Subpart J—Fees for the Motor Vehicle and Engine Compliance Program

§ 86.901 Assessment of fees.

See 40 CFR part 85, subpart Y, for the applicable fees associated with certifying engines and vehicles under this part.

Subpart K—[Amended]

16. Subpart K is amended by removing the following sections:

86.1002-84

86.1002-97

86.1003-97

86.1008-90

86.1008-96

86.1008-97

86.1009-84

86.1009-96

86.1009-97

86.1010-96

86.1012-84

Subpart M—[Amended]

17. Subpart M is amended by removing the following sections:

86.1206-90

86.1207-90

86.1213-04

86.1213-90

86.1217-90

86.1227-90

86.1230-85

86.1232-90

86.1233-90

86.1235-85

86.1238-90

86.1243-90

18. Section 86.1213-94 is revised to read as follows:

§ 86.1213-94 Fuel specifications.

Use the fuels specified in subpart N of this part for evaporative emission testing.

Subpart N—[Amended]

19. Subpart N is amended by removing the following sections:

86.1306-90

86.1311-90

86.1313-91

86.1314-84

86.1316-90

86.1319-84

86.1321-90

86.1327-90

86.1327-94

86.1330-84

86.1337-90

86.1344-90

20. Section 86.1360-2007 is amended by adding paragraph (c) to read as follows:

§ 86.1360-2007 Supplemental emission test; test cycle and procedures.

* * * * *

(c) Determining engine speeds. (1) The engine speeds A, B and C, referenced in the table in paragraph (b)(1) of this section, and speeds D and E, referenced in § 86.1380, must be determined as follows:

Speed A = nlo + 0.25 × (nhi−nlo)

Speed B = nlo + 0.50 × (nhi−nlo)

Speed C = nlo + 0.75 × (nhi−nlo)

Speed D = nhi

Speed E = nlo + 0.15 × (nhi−nlo)

Where: nhi = High speed as determined by calculating 70% of the maximum power. The highest engine speed where this power value occurs on the power curve is defined as nhi.

nlo = Low speed as determined by calculating 50% of the maximum power. The lowest engine speed where this power value occurs on the power curve is defined as nlo.

Maximum power = the maximum observed power calculated according to the engine mapping procedures defined in § 86.1332.

* * * * *

Subpart P—[Amended]

21. Subpart P is amended by removing the following sections:

86.1501-90

86.1504-90

86.1505-84

86.1505-90

86.1506-90

86.1513-90

Subpart S—[Amended]

22. Section 86.1806-01 is amended by revising paragraphs (e) introductory text, (f)(2), (f)(3), and (h) to read as follows:

§ 86.1806-01 On-board diagnostics.

* * * * *

(e) Storing of computer codes. The emission control diagnostic system shall record and store in computer memory diagnostic trouble codes and diagnostic readiness codes indicating the status of the emission control system. These codes shall be available through the standardized data link connector per SAE J1979 specifications as described in paragraph (h) of this section.

* * * * *

(f) * * *

(2) The following data in addition to the required freeze frame information shall be made available on demand through the serial port on the standardized data link connector, if the information is available to the on-board computer or can be determined using information available to the on-board computer: Diagnostic trouble codes, engine coolant temperature, fuel control system status (closed loop, open loop, other), fuel trim, ignition timing advance, intake air temperature, manifold air pressure, air flow rate, engine RPM, throttle position sensor output value, secondary air status (upstream, downstream, or atmosphere), calculated load value, vehicle speed, and fuel pressure. The signals shall be provided in standard units based on SAE specifications described in paragraph (h) of this section. Actual signals shall be clearly identified separately from default value or limp home signals.

(3) For all emission control systems for which specific on-board evaluation tests are conducted (catalyst, oxygen sensor, etc.), the results of the most recent test performed by the vehicle, and the limits to which the system is compared shall be available through the standardized data link connector per SAE J1979 specifications as described in paragraph (h) of this section.

* * * * *

(h) Reference materials. The emission control diagnostic system shall provide for standardized access and conform with the following standards that we incorporate by reference in § 86.1:

(1) Except as specified in paragraph (h)(2) of this section, SAE J1850 “Class B Data Communication Network Interface,” (July 1995) shall be used as the on-board to off-board communications protocol. All emission related messages sent to the scan tool over a J1850 data link shall use the Cyclic Redundancy Check and the three byte header, and shall not use inter-byte separation or checksums.

(2) ISO 9141-2 February 1994 “Road vehicles—Diagnostic systems—Part 2: CARB requirements for interchange of digital information,” may be used as an alternative to SAE J1850 as the on-board to off-board communications protocol.

(3) Basic diagnostic data (as specified in §§ 86.094-17(e) and (f)) shall be provided in the format and units in SAE J1979 July 1996 E/E Diagnostic Test Modes.”

(4) Diagnostic trouble codes shall be consistent with SAE J2012 July 1996 “Recommended Practices for Diagnostic Trouble Code Definitions.”

(5) The connection interface between the OBD system and test equipment and diagnostic tools shall meet the functional requirements of SAE J1962 January 1995 “Diagnostic Connector.”

* * * * *

23. Section 86.1806-04 is amended by revising paragraph (j) to read as follows:

§ 86.1806-04 On-board diagnostics.

* * * * *

(j) California OBDII compliance option. For light-duty vehicles, light-duty trucks, and heavy-duty vehicles weighing 14,000 pounds GVWR or less, demonstration of compliance with California OBD II requirements (Title 13 California Code of Regulations § 1968.2 (13 CCR 1968.2)), as modified, approved and filed on April 21, 2003, shall satisfy the requirements of this section, except that compliance with 13 CCR 1968.2(e)(4.2.2)(C), pertaining to 0.02 inch evaporative leak detection, and 13 CCR 1968.2(d)(1.4), pertaining to tampering protection, are not required to satisfy the requirements of this section. Also, the deficiency provisions of 13 CCR 1968.2(i) do not apply. The deficiency provisions of paragraph (i) of this section and the evaporative leak detection requirement of paragraph (b)(4) of this section apply to manufacturers selecting this paragraph for demonstrating compliance. In addition, demonstration of compliance with 13 CCR 1968.2(e)(16.2.1)(C), to the extent it applies to the verification of proper alignment between the camshaft and crankshaft, applies only to vehicles equipped with variable valve timing.

* * * * *

24. Section 86.1806-05 is amended by revising paragraph (j) to read as follows:

§ 86.1806-05 On-board diagnostics.

* * * * *

(j) California OBDII compliance option. For light-duty vehicles, light-duty trucks, and heavy-duty vehicles weighing 14,000 pounds GVWR or less, demonstration of compliance with California OBDII requirements (Title 13 California Code of Regulations § 1968.2 (13 CCR 1968.2)), as modified, approved and filed on April 21, 2003, shall satisfy the requirements of this section, except that compliance with 13 CCR 1968.2(e)(4.2.2)(C), pertaining to 0.02 inch evaporative leak detection, and 13 CCR 1968.2(d)(1.4), pertaining to tampering protection, are not required to satisfy the requirements of this section. Also, the deficiency provisions of 13 CCR 1968.2(i) do not apply. The deficiency provisions of paragraph (i) of this section and the evaporative leak detection requirement of paragraph (b)(4) of this section apply to manufacturers selecting this paragraph for demonstrating compliance. In addition, demonstration of compliance with 13 CCR 1968.2(e)(16.2.1)(C), to the extent it applies to the verification of proper alignment between the camshaft and crankshaft, applies only to vehicles equipped with variable valve timing.

* * * * *

25. Section 86.1840-01 is amended by adding paragraphs (c) and (d) to read as follows:

§ 86.1840-01 Special test procedures.

* * * * *

(c) Manufacturers of vehicles equipped with periodically regenerating trap oxidizer systems must propose a procedure for testing and certifying such vehicles including SFTP testing for the review and approval of the Administrator. The manufacturer must submit its proposal before it begins any service accumulation or emission testing. The manufacturer must provide with its submittal, sufficient documentation and data for the Administrator to fully evaluate the operation of the trap oxidizer system and the proposed certification and testing procedure.

(d) The provisions of paragraph (a) and (b) of this section also apply to MDPVs.

26. Section 86.1844-01 is amended by adding paragraph (d)(17) to read as follows:

§ 86.1844-01 Information requirements: Application for certification and submittal of information upon request.

* * * * *

(d) * * *

(17) The name of an agent for service of process located in the United States. Service on this agent constitutes service on you or any of your officers or employees for any action by EPA or otherwise by the United States related to the requirements of this part.

* * * * *

[FR Doc. E6-14429 Filed 8-29-06; 8:45 am]

BILLING CODE 6560-50-P